DEPARTMENT OF TRANSPORTATION

Federal Aviation Administration

14 CFR Part 39

[Docket No. 2003-NM-12-AD; Amendment 39-13717; AD 2004-14-08]

RIN 2120-AA64

Airworthiness Directives; Airbus Model A300 B4-600, B4-600R, C4-605R Variant F, and F4-600R (Collectively Called A300-600), and A310 Series Airplanes

AGENCY: Federal Aviation Administration, DOT.

ACTION: Final rule.

SUMMARY: This amendment adopts a new airworthiness directive (AD), applicable to certain Airbus Model A300-600 and A310 series airplanes, that requires modification of the attachment system of the insulation blankets of the forward cargo compartment and related corrective action. This action is necessary to prevent failure of the attachment system of the cargo insulation blankets, which could result in detachment and consequent tearing of the blankets. Such tearing could result in blanket pieces being ingested into and jamming the forward outflow valve of the pressure regulation subsystem, which could lead to cabin depressurization and adversely affect continued safe flight of the airplane. This action is intended to address the identified unsafe condition.

DATES: Effective August 17, 2004.

The incorporation by reference of certain publications listed in the regulations is approved by the Director of the Federal Register as of August 17, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300-600 and A310 series airplanes was published in the Federal Register on April 6, 2004 (69 FR 17996). That action proposed to require modification of the attachment system of the insulation blankets of the forward cargo compartment and related corrective action.

Comments

We provided the public the opportunity to participate in the development of this AD. No comments have been submitted on the proposed AD or on the determination of the cost to the public.

Revised Service Information

Since issuance of the proposed AD, the manufacturer has revised the referenced service information. Therefore, we have changed paragraph (a) of this final rule to refer to Airbus Service Bulletins A300-21-6045 (for Model A300-600 series airplanes) and A310-21-2059 (for Model A310 series airplanes), both Revision 02, both dated March 27, 2003, for accomplishment of the modification of the attachment system of the insulation blankets of the forward cargo compartment. We have also noted that accomplishment of the modification before the effective date of this AD using Revision 01 of the service bulletins is acceptable for compliance with that paragraph. Revision 02 has been identified as mandatory and contains procedures that are essentially the same as those in Revision 01 (referenced in the proposed AD as the appropriate source of service information for accomplishment of the actions).

Conclusion

We have carefully reviewed the available data and determined that air safety and the public interest require adopting the AD with the change described previously. This change will neither increase the economic burden on any operator nor increase the scope of the AD.

Cost Impact

We estimate that 149 airplanes of U.S. registry will be affected by this AD, that it will take about 3 work hours per airplane to accomplish the modification, and that the average labor rate is $65 per work hour. Required parts will cost about $198 per airplane. Based on these figures, the cost impact of the AD on U.S. operators is estimated to be $58,557, or $393 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-08 Airbus: Amendment 39-13717. Docket 2003-NM-12-AD.

Applicability: Model A300 B4-600, B4-600R, C4-605R Variant F, and F4-600R (collectively called A300-600), and A310 series airplanes; certificated in any category; on which Airbus Modification 12340 or 12556 has not been done; and A310 series airplanes on which Airbus Modification 3881 has been done.

Compliance: Required as indicated, unless accomplished previously.

To prevent failure of the attachment system of the cargo insulation blankets, which could result in detachment and consequent tearing of the blankets, resulting in blanket pieces being ingested into and jamming the forward outflow valve of the pressure regulation subsystem, which could lead to cabin depressurization and adversely affect continued safe flight of the airplane, accomplish the following:

Modification

(a) Within 1 year after the effective date of this AD: Modify the attachment system of the insulation blankets of the forward cargo compartment by doing all the applicable actions per the Accomplishment Instructions of Airbus Service Bulletin A300-21-6045 (for Model A300-600 series airplanes) or A310-21-2059 (for Model A310 series airplanes), both Revision 02, both dated March 27, 2003, as applicable. Repair any damaged insulation blanket before further flight, per the applicable service bulletin. Actions accomplished before the effective date of this AD per Airbus Service Bulletin A300-21-6045 or A310-21-2059, both Revision 01, both dated May 22, 2002, are acceptable for compliance with the corresponding action required by this paragraph.

Alternative Methods of Compliance

(b) In accordance with 14 CFR 39.19, the Manager, International Branch, ANM-116, FAA, Transport Airplane Directorate, is authorized to approve alternative methods of compliance for this AD.

Incorporation by Reference

(c) The actions shall be done in accordance with Airbus Service Bulletin A300-21-6045, Revision 02, dated March 27, 2003; or Airbus Service Bulletin A310-21-2059, Revision 02, dated March 27, 2003; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Note 1: The subject of this AD is addressed in French airworthiness directive 2002-626(B) R1, dated March 19, 2003.

Effective Date

(d) This amendment becomes effective on August 17, 2004.

Issued in Renton, Washington, on June 29, 2004.
Kalene C. Yanamura,
Acting Manager, Transport Airplane Directorate, Aircraft Certification Service.

[FR Doc. 04-15366 Filed 7-12-04; 8:45 am]

BILLING CODE 4910-13-P